DEPARTMENT OF ENERGY

Office of Science Financial Assistance Program Notice 02-17: Fusion 2002 Summer Study, Snowmass Village, CO, Supplemental Travel Funding

AGENCY: Department of Energy (DOE).

ACTION: Notice inviting applications for supplemental travel funding.

SUMMARY: The Office of Fusion Energy Sciences (OFES) of the Office of Science (SC), U.S. Department of Energy hereby announces its interest in receiving applications for supplemental travel funding for existing grants to allow researchers and graduate students who are members of the fusion energy science community to participate in the Snowmass 2002 Fusion Energy Sciences Summer Study to be held July 8-19, 2002, Snowmass Village, Colorado. Preference will be given to requests to supplement existing grants funded at levels less than $500,000 per year.

DATES: To permit timely consideration for awards in Fiscal Year 2002, formal applications in response to this notice should be received on or before March 14, 2002.

ADDRESSES: Completed formal applications referencing Program Notice 02-17, should be forwarded to: U.S. Department of Energy, Office of Science, Grants and Contracts Division, SC-64, 19901 Germantown Road, Germantown, Maryland 20874-1290, ATTN: Program Notice 02-17. The above address must also be used when submitting applications by U.S. Postal Service Express, any other commercial mail delivery service or when hand carried by the applicant.

FOR FURTHER INFORMATION CONTACT: Dr. Arnold H. Kritz, U.S. Department of Energy, Office of Fusion Energy Sciences, Science Division, SC-55 (GTN), 19901 Germantown Road, Germantown, Maryland 20874-1290. Telephone: (301) 903-2027. e-mail: Arnold.Kritz@science.doe.gov.

SUPPLEMENTARY INFORMATION: The objective of the supplemental travel funding is to encourage broad participation by fusion science researchers in the Snowmass 2002 Fusion Energy Sciences Summer Study. This funding is intended to supplement existing grants funded by the Office of Fusion Energy Sciences. Preference will be given to requests to supplement grants with an annual budget of less than $200,000. Principal Investigators of existing grants may submit requests for supplemental funding to support travel, up to a maximum of $2500 per person, for any researcher or graduate student supported by their grant. Requests for travel funds for both researchers and graduate students can be included in the same application for supplemental funding.

It is expected that $60,000 will be available to support supplemental travel for faculty and research staff. In order to encourage student participation in the meeting, an additional $20,000 is expected to be available to support graduate student travel, with preference given to students nearing completion of their Ph.D. degree.

The request for supplemental funding should include a page for each traveler, not to exceed 300 words, describing how the Summer Study relates to the traveler's research and what the traveler is likely to contribute to the Summer Study. The supplemental travel funding for each proposed traveler will be reviewed competitively with awards based on the applicant's likely level of participation in the Meeting as well as potential benefit to the fusion program resulting from the applicant's attendance at the Fusion 2002 Summer Study Meeting. Additional information about the objectives of the Fusion 2002 Summer Study at Snowmass can be obtained from the Web site at: http://lithos.gat.com/snowmass/

The request for each traveler should indicate the Snowmass Working Group, or Groups, in which the traveler expects to participate. Briefly describe how the individual's research will enable him/her to contribute to the topic of the specified Snowmass Working Group(s) and/or how the participation in the program of the Snowmass Working group(s) will benefit the individual's fusion research program. A listing of the Snowmass working groups can be found on the Web at: http://lithos.gat.com/snowmass/working.html. The request should also include a vitae for each traveler. The relationship between the traveler's research experience and the goals of the Snowmass meeting will be considered in evaluating the request. In the budget justification specify for each traveler the breakdown for travel, lodging and per diem costs.

Applicants are expected to use the following ordered format to prepare applications.

• Face Page Form (DOE F 4650.2)

• Budget Page Form (DOE F 4620.1)

• Page with Budget Explanation

• One page for each traveler, not to exceed 300 words per traveler, describing how the Summer Study relates to the travelers research and what the traveler is likely to contribute to the Summer Study

• Biographical sketches or vitae, including relevant publications (limit two pages per traveler)

General information about development and submission of applications, eligibility, limitations, evaluations and selection processes, and other policies and procedures are contained in the Application Guide for the Office of Science Financial Assistance Program and 10 CFR part 605 which is available on the World Wide Web at: http://www.science.doe.gov/production/grants/grants.html. DOE is under no obligation to pay for any costs associated with the preparation or submission of applications.

The Catalog of Federal Domestic Assistance Number for this program is 81.049, and the solicitation control number is ERFAP 10 CFR part 605.

Issued in Washington, DC, on January 29, 2002.
John Rodney Clark,
Associate Director of Science for Resource Management.

[FR Doc. 02-2712 Filed 2-4-02; 8:45 am]

BILLING CODE 6450-02-U